DEPARTMENT OF HOMELAND SECURITY

Federal Emergency Management Agency

44 CFR Part 67

[Docket ID FEMA-2008-0020; Internal Agency Docket No. FEMA-B-1066]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 7, 2009.

ADDRESSES: The corresponding preliminary Flood Insurance Rate Map (FIRM) for the proposed BFEs for each community is available for inspection at the community's map repository. The respective addresses are listed in the table below.

You may submit comments, identified by Docket No. FEMA-B-1066, to Kevin C. Long, Acting Chief, Engineering Management Branch, Mitigation Directorate, Federal Emergency Management Agency, 500 C Street, SW., Washington, DC 20472, (202) 646-2820, or (e-mail) Kevin.Long@dhs.gov.

FOR FURTHER INFORMATION CONTACT: Kevin C. Long, Acting Chief, Engineering Management Branch, Mitigation Directorate, Federal Emergency Management Agency, 500 C Street, SW., Washington, DC 20472, (202) 646-2820, or (e-mail) Kevin.Long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground ∧ Elevation in meters (MSL): Existing | * Elevation in feet (NGVD) + Elevation in feet (NAVD) # Depth in feet above ground ∧ Elevation in meters (MSL): Modified
City of Baltimore, Maryland
Maryland | City of Baltimore | Gwynn Falls | Approximately 30 feet downstream of Old Annapolis Road | +7 | +9
|  |  | Approximately 2,450 feet upstream of Forest Park Avenue | +284 | +275
Maryland | City of Baltimore | Herring Run | Just downstream of the I-95 bridge | None | +14
|  |  | Approximately 1,300 feet upstream of the I-895 bridge | None | +31
Maryland | City of Baltimore | Jones Falls | Approximately 50 feet downstream of East Pratt Street | None | +9
|  |  | Approximately 200 feet west of the intersection of Falls Road and Maryland Avenue | None | +67
Maryland | City of Baltimore | Maidens Choice Run | Approximately 250 feet downstream of Colleen Road northeast of the intersection of South Beechfield Avenue | None | +173
|  |  | Approximately 270 feet southeast of the intersection of Mallow Hill Road and Mardrew Road | None | +333
Maryland | City of Baltimore | Unnamed Tributary to Herring Run | Approximately 1,420 feet upstream of North Bend Road | None | +16
|  |  | Approximately 2,000 feet upstream of North Point Road | None | +36
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Baltimore
Maps are available for inspection at the Department of Planning, 401 East Fayette Street, 8th Floor, Baltimore, MD 21202.

Flooding source(s) | Location of referenced elevation** | * Elevation in feet (NGVD) + Elevation in feet (NAVD) # Depth in feet above ground ∧Elevation in meters (MSL): Effective | * Elevation in feet (NGVD) + Elevation in feet (NAVD) # Depth in feet above ground ∧Elevation in meters (MSL): Modified | Communities affected
Carroll County, Arkansas, and Incorporated Areas
Leatherwood Creek | Approximately 0.61 miles upstream of Magnetic Road | None | +1109 | Unincorporated Areas of Carroll County.
| Approximately 1,250 feet upstream of Magnetic Road | None | +1131
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Carroll County
Maps are available for inspection at the County Courthouse, 210 West Church Street, Berryville, AR 72616.
Jefferson County, Illinois, and Incorporated Areas
Bell Street Ditch | The confluence with Casey Fork (approximately 2,438 feet downstream from State Highway 142) | None | +436 | Unincorporated Areas of Jefferson County.
| The railroad (approximately 450 feet downstream of State Highway 142) | None | +444
Botches Ditch | Just upstream of State Highway 37 | None | +435 | Unincorporated Areas of Jefferson County.
| Approximately 200 feet downstream of 30th Street | None | +479
Brickyard Creek | Approximately 290 feet downstream of 10th Street | None | +465 | Unincorporated Areas of Jefferson County.
| Just downstream of 11th Street | None | +469
Casey Fork | Approximately 1,670 feet downstream of State Highway 142 | None | +434 | Unincorporated Areas of Jefferson County.
| Approximately 2,735 feet upstream of Tolle Road | None | +455
Church Tributary | Approximately 165 feet downstream of State Highway 37 | None | +466 | Unincorporated Areas of Jefferson County.
| Approximately 200 feet upstream of State Highway 37 | None | +469
East Fork Botches Ditch | Approximately 350 feet downstream of South Fishers Lane | None | +475 | Unincorporated Areas of Jefferson County.
| Just downstream of South Fishers Lane | None | +475
Rend Lake | Approximately 12,500 feet west of the intersection of County Highway 43 and East Franklin Road | None | +415 | Unincorporated Areas of Jefferson County, City of Nason, Village of Bonnie, Village of Ina.
| Approximately 2,400 feet west of the intersection of Bonnie Road and Cooley Lane | None | +415
West Tributary | Approximately 195 feet upstream of Interstate 57/64 | None | +458 | Unincorporated Areas of Jefferson County.
| Just downstream of 42nd Street | None | +477
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Nason
Maps are available for inspection at City Hall, 121 North 9th Street, Nason, IL 62866.
Unincorporated Areas of Jefferson County
Maps are available for inspection at the Jefferson County Courthouse, 100 South 10th Street, Mount Vernon, IL 62864.
Village of Bonnie
Maps are available for inspection at the Village Hall, 270 South Railroad Avenue, Bonnie, IL 62816.
Village of Ina
Maps are available for inspection at the Village Hall, 306 South Elm Street, Ina, IL 62846.
Simpson County, Kentucky, and Incorporated Areas
Webb Branch | Just downstream KY-1008 (Industrial Bypass) | None | +660 | City of Franklin, Unincorporated Areas of Simpson County.
| Approximately 0.4 miles upstream of Witt Road | None | +736
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Franklin
Maps are available for inspection at 117 West Cedar Street, Franklin, KY 42135.
Unincorporated Areas of Simpson County
Maps are available for inspection at 100 Main Street, Franklin, KY 42135.
York County, Maine (All Jurisdictions)
Atlantic Ocean | Along the shoreline, at the intersection of Great Hill Road and Sand Dollar Lane | +11 | +12 | Town of Kennebunkport, City of Biddeford, Town of Kennebunk, Town of Kittery, Town of Ogunquit, Town of Old Orchard Beach, Town of Wells, Town of York.
| Along the shoreline, approximately 230 feet east of the intersection of Ocean View Lane and Ontio Way | +14 | +33
Cape Porpoise Harbor | Along the shoreline, at the intersection of Paddy Creek Road and Paddy Creek Hill Road | +8 | +9 | Town of Kennebunkport.
| Along the shoreline, approximately 330 feet east of the terminus of Harbor Drive | +13 | +17
Cleaves Cove | Along the shoreline, approximately 400 feet from the intersection of Turbats Creek Road and Field Point Road | None | +13 | Town of Kennebunkport.
| Along the shoreline, at the terminus of Halcyon Drive | +13 | +22
Coffin Brook | Just upstream of the confluence of Worster Brook | None | +133 | Town of Berwick.
| Approximately 1.63 miles upstream of the confluence with Worster Brook | None | +254
Coffin Brook Tributary 1 | Just upstream of the confluence of Coffin Brook | None | +141 | Town of Berwick.
| Just downstream of Cemetery Road | None | +320
Driscoll Brook | Approximately 465 feet east of the intersection of State Highway 236 and the railroad | None | +85 | Town of Berwick, Town of South Berwick.
| Just downstream of Blackberry Hill Road | None | +159
Ferguson Brook | Just upstream of the confluence of Worster Brook | None | +117 | Town of Berwick.
| Just downstream of Cemetery Road | None | +326
Goosefare Brook | Along the shoreline, at the intersection of Royal Street and Massachusetts Avenue | +8 | +9 | Town of Old Orchard Beach.
| Along the shoreline, at the intersection of New Salt Road and Grand Avenue | None | +15
Keay Brook | Just upstream of the confluence of Salmon Falls River | None | +186 | Town of Berwick.
| Approximately 890 feet south of the terminus of Richardson Drive | None | +250
Kennebunk River | Approximately 340 feet south of the terminus of Old Boston Road | None | +9 | Town of Arundel.
Little River | Just upstream of the confluence of Salmon Falls River | None | +183 | Town of Berwick.
| Just upstream of the intersection of Little River Road and Dark Hollow Lane | None | +249
Mulloy Brook | Just upstream of the confluence of Worster Brook | None | +142 | Town of Berwick.
| Approximately 1.1 mile upstream of the confluence of Worster Brook | None | +304
Piscataqua River | Along the shoreline, approximately 270 feet south of the intersection of Langston Point and Prince Avenue | +8 | +9 | Town of Kittery.
| Along the shoreline, approximately 560 feet west of the intersection of Langston Point and Prince Avenue | +8 | +14
Portsmouth Harbor | Along the shoreline, approximately 165 feet east of the intersection of Haley Road and Pepperrell Road | +8 | +9 | Town of Kittery.
| Along the shoreline, approximately 390 feet east of the intersection of Bellamy Lane and Pepperrell Road | +14 | +22
Saco River | Along the shoreline, at the terminus of Crestwood Drive | +8 | +9 | City of Biddeford.
| Along the shoreline, at the terminus of Reserved Lane | +13 | +16
Sampson Cove | Along the shoreline, approximately 1,200 feet east of the intersection of Marshall Point Road and Mills Road | +8 | +14 | Town of Kennebunkport.
| Along the shoreline, approximately 720 feet east of the intersection of Fishers Lane and Agamenticus Avenue | +15 | +17
Spruce Creek | Along the shoreline, approximately 920 feet north of the intersection of Whipple Road and Newson Avenue | +8 | +9 | Town of Kittery.
| Along the shoreline, approximately 920 feet north of the intersection of Whipple Road and Newson Avenue | +8 | +13
The Pool | Along the shoreline, approximately 560 feet from the intersection of Days Landing and Dory Lane | None | +9 | City of Biddeford.
| Along the shoreline, approximately 490 feet from the intersection of Winter Harbor Lane and Bridge Road | +8 | +11
Worster Brook | Just upstream of the confluence of Salmon Falls River | None | +76 | Town of Berwick.
| Approximately 5.8 miles upstream of the confluence with Salmon Falls River | None | +228
Worster Brook Tributary 3 | Just upstream of the confluence of Worster Brook | None | +194 | Town of Berwick.
| Just downstream of Thompson Hill Road | None | +310
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Biddeford
Maps are available for inspection at City Hall, 205 Main Street, Biddeford, ME 04005.
Town of Arundel
Maps are available for inspection at the Town Hall, 468 Limerick Road, Arundel, ME 04046.
Town of Berwick
Maps are available for inspection at the Town Hall, 11 Sullivan Square, Berwick, ME 03901.
Town of Kennebunk
Maps are available for inspection at the Town Hall, 1 Summer Street, Kennebunk, ME 04043.
Town of Kennebunkport
Maps are available for inspection at the Town Hall, 6 Elm Street, Kennebunkport, ME 04046.
Town of Kittery
Maps are available for inspection at the Town Hall, 200 Rogers Road, Kittery, ME 03904.
Town of Ogunquit
Maps are available for inspection at the Town Hall, 23 School Street, Ogunquit, ME 03907.
Town of Old Orchard Beach
Maps are available for inspection at the Town Hall, 1 Portland Avenue, Old Orchard Beach, ME 04064.
Town of South Berwick
Maps are available for inspection at the Town Hall, 180 Main Street, South Berwick, ME 03908.
Town of Wells
Maps are available for inspection at the Town Hall, 208 Sanford Road, Wells, ME 04090.
Town of York
Maps are available for inspection at the Town Hall, 186 York Street, York, ME 03909.
Hampden County, Massachusetts, and Incorporated Areas
Connecticut River | Approximately 3,100 feet downstream of the confluence with Threemile Brook | +56 | +57 | City of Chicopee, City of Holyoke, City of Springfield, Town of Agawam, Town of Longmeadow, Town of West Springfield.
| Just upstream of Interstate 90 (Massachusetts Turnpike) | +64 | +66
| Approximately 6 miles upstream of U.S. Route 202 | +121 | +122
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Chicopee
Maps are available for inspection at the City Hall Annex, 274 Front Street, Fourth Floor, Chicopee, MA 01013.
City of Holyoke
Maps are available for inspection at the City Hall Annex, 536 Dwight Street, Room 300, Holyoke, MA 01040.
City of Springfield
Maps are available for inspection at the Office of Emergency Preparedness, 1212 Carew Street, Springfield, MA 01104.
Town of Agawam
Maps are available for inspection at the Town Hall, 36 Main Street, Agawam, MA 01001.
Town of Longmeadow
Maps are available for inspection at the Town Hall, 20 Williams Street, Longmeadow, MA 01106.
Town of West Springfield
Maps are available for inspection at 26 Central Street, Suite 20, West Springfield, MA 01089.
Norfolk County, Massachusetts (All Jurisdictions)
Atlantic Ocean | Along the shoreline, approximately 100 feet south of the intersection of Stockbridge Street and Margin Street | +11 | +21 | Town of Cohasset.
| Along the shoreline approximately 330 feet northeast from the end of Whitehead Road | +25 | +21
Weymouth Fore River Bay | Along the shoreline, approximately 275 feet east of the intersection of Pleasant View Avenue and Venus Road | +14 | +12 | Town of Braintree, Town of Weymouth.
| Along the shoreline, approximately 1,000 feet west of the intersection of Monatiquot Street and Bluff Road | +11 | +15
* National Geodetic Vertical Datum.
# Depth in feet above ground.
+ North American Vertical Datum.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Braintree
Maps are available for inspection at the Town Hall, 1 John F. Kennedy Memorial Drive, Braintree, MA 02184.
Town of Cohasset
Maps are available for inspection at the Town Hall, 41 Highland Avenue, Cohasset, MA 02025.
Town of Weymouth
Maps are available for inspection at the Town Hall, 75 Middle Street, Weymouth, MA 02189.
Houston County, Tennessee, and Incorporated Areas
Tennessee River | Houston County boundary approximately at rivermile 74.3 | None | +375 | Unincorporated Areas of Houston County.
| Houston County boundary approximately at rivermile 82.5 | None | +375
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Houston County
Maps are available for inspection at 31 East Main Street, 101 Courthouse, Erin, TN 37061.
Bandera County, Texas, and Incorporated Areas
Medina River | Flooding effects from the Bandera River just downstream of State Highway 16 | None | +215 | Unincorporated Areas of Bandera County.
| Flooding effects from the Medina River just upstream of Harvey Ray Drive | None | +1213
* National Geodetic Vertical Datum.
# Depth in feet above ground.
+ North American Vertical Datum.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Bandera County
Maps are available for inspection at 502 11th Street, Bandera, TX 78003.
Bosque County, Texas, and Incorporated Areas
Tributary 1 to North Bosque River | Approximately 1,000 feet downstream of confluence with Tributary to North Bosque River | None | +560 | Unincorporated Areas of Bosque County.
| Approximately 400 feet upstream of State Highway 6 | None | +590
Tributary to North Bosque River | Approximately 1,000 feet downstream of confluence with Tributary 1 to North Bosque River | None | +560 | Unincorporated Areas of Bosque County.
| Approximately 900 feet upstream of State Highway 6 | None | +572
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Bosque County
Maps are available for inspection at the County Courthouse, 201 South Main, Meridian, TX 76665.
Brooks County, Texas, and Incorporated Areas
Cibolo Creek | At the confluence with Palo Blanco Creek | None | +106 | Unincorporated Areas of Brooks County.
| Just downstream of State Highway 325 | None | +113
Palo Blanco Creek | At the confluence with Cibolo Creek | None | +106 | Unincorporated Areas of Brooks County.
| Just downstream of State Highway 325 | None | +113
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Brooks County
Maps are available for inspection at 408 West Travis Street, Falfurrias, TX 78355.
Howard County, Texas, and Incorporated Areas
Beals Creek | Just upstream from Midway Creek | None | +2375 | City of Big Spring.
| At the confluence of One Mile Lake | +2413 | +2414
Big Spring Draw | At the confluence with Beals Creek | None | +2375 | City of Big Spring, Unincorporated Areas of Howard County.
| Approximately 1,000 feet upstream of Country Club Road | None | +2639
Reals Draw | At the confluence with Beals Creek | +2407 | +2408 | City of Big Spring, Unincorporated Areas of Howard County.
| Just downstream from Hilltop Road | None | +2483
Stream BSP1 | At the confluence with Big Spring Draw | +2579 | +2580 | City of Big Spring.
| Just upstream from Parkway Road | +2602 | +2603
Stream BSP2 | At the confluence of Big Spring Draw | +2630 | +2632 | City of Big Spring, Unincorporated Areas of Howard County.
| Approximately 885 feet upstream of Driver Road | +2643 | +2645
Stream BSP3 | At the confluence with Beals Creek | +2409 | +2410 | City of Big Spring.
| Just upstream of Frontage Road | +2496 | +2487
Stream BSP4 | At the confluence with Stream BSP3 | +2447 | +2448 | City of Big Spring.
| Just upstream of Frontage Road | +2496 | +2495
Stream BSP5 | At the confluence of Beals Creek and One Mile Lake | +2414 | +2413 | City of Big Spring.
| Just upstream of Frontage Road | +2468 | +2469
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Big Spring
Maps are available for inspection at 310 Nolan Street, Big Spring, TX 79720.
Unincorporated Areas of Howard County
Maps are available for inspection at 300 Main Street, Big Spring, TX 79720.
Upshur County, Texas, and Incorporated Areas
Victory Branch | Approximately 680 feet downstream of Salt Water Road | None | +315 | Unincorporated Areas of Upshur County.
| Approximately 650 feet downstream of Salt Water Road | None | +315
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Upshur County
Maps are available for inspection at the County Courthouse, 100 West Tyler Street, Gilmer, TX 75644.
Uvalde County, Texas, and Incorporated Areas
Cooks Slough | Flooding effects extending from Cooks Slough, just upstream of US Highway 83 | None | +893 | Unincorporated Areas of Uvalde County.
| Flooding effects extending from Cooks Slough, 0.7 miles upstream of US Highway 83 | None | +895
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Uvalde County
Maps are available for inspection at 100 North Getty Street, Uvalde, TX 78801.
Bedford County, Virginia, and Incorporated Areas
Lick Run | Approximately 5.2 miles above confluence with Big Otter River | None | +727 | Unincorporated Areas of Bedford County.
| Just downstream of Route 460 | None | +756
Tributary No. 11 To Ivy Creek | Approximately 850 feet from confluence with Ivy Creek | None | +696 | Unincorporated Areas of Bedford County.
| Just downstream of Forest Road | None | +801
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Bedford County
Maps are available for inspection at the Office of the County Administrator, 122 East Main Street, Suite 2002, Bedford, VA 24523.
Fairfax County, Virginia, and Incorporated Areas
Cameron Run | Approximately 1,975 feet upstream of the confluence with Potomac River | None | *11 | Unincorporated Areas of Fairfax County.
| Approximately 1.0 mile upstream of the confluence with Pike Branch | None | *30
Dogue Creek | At the confluence with the Potomac River | *9 | *10 | Unincorporated Areas of Fairfax County.
| Approximately 1.5 miles upstream of the Potomac River at Mount Vernon Road | *9 | *10
Potomac River | Approximately 1,140 feet east of Carriage House Court | *9 | *10 | Unincorporated Areas of Fairfax County.
| Approximately 1,250 feet south of intersection River Drive and Oak Grove Street | *9 | *10
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Fairfax County
Maps are available for inspection at 12055 Government Center Parkway, Suite 659, Fairfax, VA 22035.
Randolph County, West Virginia, and Incorporated Areas
Backwater flooding from Tygart Valley River | Approximately at the area bounded by Robert E Lee Avenue, Whisperwood Drive and the railroad | +1913 | +1914 | City of Elkins.
| Approximately at corporate limits paralleling Sunset Drive | +1912 | +1914
Craven Run | Approximately at downstream corporate limits of City of Elkins | +1909 | +1913 | City of Elkins.
| Approximately 630 feet downstream of Virginia Avenue | +1912 | +1913
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Elkins
Maps are available for inspection at City Hall, 2nd Floor, Elkins, WV 26241.

(Catalog of Federal Domestic Assistance No. 97.022, “Flood Insurance.”)

Deborah S. Ingram,
Acting Deputy Assistant Administrator for Mitigation, Mitigation Directorate, Department of Homeland Security, Federal Emergency Management Agency.

[FR Doc. E9-21607 Filed 9-4-09; 8:45 am]

BILLING CODE 9110-12-P